DEPARTMENT OF HEALTH AND HUMAN SERVICES

Centers for Medicare & Medicaid Services

42 CFR Parts 405, 410, 416, 419, 424, 485, 488, 489

Office of the Secretary

45 CFR Part 180

[CMS-1786-P]

RIN 0938-AV09

Medicare Program: Hospital Outpatient Prospective Payment and Ambulatory Surgical Center Payment Systems; Quality Reporting Programs; Payment for Intensive Outpatient Services in Rural Health Clinics, Federally Qualified Health Centers, and Opioid Treatment Programs; Hospital Price Transparency; Changes to Community Mental Health Centers Conditions of Participation, Proposed Changes to the Inpatient Prospective Payment System Medicare Code Editor; Rural Emergency Hospital Conditions of Participation Technical Correction

Correction

In proposed rule document 2023-14768 appearing on pages 49552-49921 in the issue of Monday, July 31, 2023, make the following correction:

On page 49762, Table 61 is corrected to read as set forth below:

Table 61—CY 2024 Proposed Surgical Procedures for the ASC CPL
CY 2024 CPT/HCPCS/CDT code | CY 2024 long descriptor
D4210 | Gingivectomy or gingivoplasty—four or more contiguous teeth or tooth bounded spaces per quadrant.
D4211 | Gingivectomy or gingivoplasty—one to three contiguous teeth or tooth bounded spaces per quadrant.
D4212 | Gingivectomy or gingivoplasty to allow access for restorative procedure, per tooth.
D4260 | Osseous surgery (including elevation of a full thickness flap entry and closure)—four or more contiguous teeth or tooth bounded spaces per quadrant.
D4263 | Bone replacement graft—retained natural tooth—first site in quadrant.
D4270 | Pedicle soft tissue graft procedure.
D4273 | Autogenous connective tissue graft procedure (including donor and recipient surgical sites) first tooth, implant, or edentulous tooth position in graft.
D7111 | Extraction, coronal remnants—primary tooth.
D7140 | Extraction—erupted tooth or exposed root (elevation and/or forcep removal).
D7210 | Surgical removal of an erupted tooth requiring removal of bone and/or sectioning of tooth and including elevation of mucoperiosteal flap if indicated.
D7220 | Removal of impacted tooth—soft tissue.
D7230 | Removal of impacted tooth—partially bony.
D7240 | Removal of impacted tooth—completely bony.
D7241 | Removal of impacted tooth—completely bony, with unusual surgical complications.
D7250 | Surgical removal of residual tooth roots (cutting procedure).
D7270 | Tooth reimplantation and/or stabilization of accidentally evulsed or displaced tooth.
D7310 | Alveoloplasty in conjunction with extractions—four or more teeth or tooth spaces, per quadrant.
D7311 | Alveoloplasty in conjunction with extractions—one to three teeth or tooth spaces, per quadrant.
D7472 | Removal of torus palatinus.
D7473 | Removal of torus mandibularis.
D7510 | Incision and drainage of abscess-intraoral soft tissue.
D7511 | Incision and drainage of abscess—intraoral soft tissue—complicated (includes drainage of multiple fascial spaces).
D7520 | Incision and drainage of abscess-extraoral soft tissue.
D7550 | Partial ostectomy/sequestrectomy for removal of non-vital bone.
D7950 | Osseous, osteoperiosteal, or cartilage graft of the mandible or maxilla—autogenous or nonautogenous, by report.
G0330 | Facility services for dental rehabilitation procedure(s) performed on a patient who requires monitored anesthesia (e.g., general, intravenous sedation (monitored anesthesia care) and use of an operating room.

[FR Doc. C1-2023-14768 Filed 8-21-23; 8:45 am]

BILLING CODE 0099-10-P